DEPARTMENT OF ENERGY

Notice of Availability of Guidance and Application for Hydroelectric Incentive Program

AGENCY: Water Power Technologies Office, Office of Energy Efficiency and Renewable Energy, Department of Energy.

ACTION: Notice of availability of guidance and open application period.

SUMMARY: The U.S. Department of Energy (DOE) gives notice of updated guidance for the Energy Policy Act of 2005 program. The guidance describes the hydroelectric incentive payment requirements and explains the type of information that owners or authorized operators of qualified hydroelectric facilities must provide DOE when applying for hydroelectric incentive payments. This incentive is available for electric energy generated and sold for a specified 10-year period as authorized under the Energy Policy Act of 2005. In Congressional appropriations for Federal fiscal year 2018, DOE received funds to support this hydroelectric incentive program. At this time, DOE is only accepting applications from owners and authorized operators of qualified hydroelectric facilities for hydroelectricity generated and sold in calendar year 2017.

DATES: DOE is currently accepting applications from June 20, 2018 through July 20, 2018. Applications must be sent to hydroincentive@ee.doe.gov by midnight EDT, July 20, 2018, or they will not be considered timely filed for calendar year 2017 incentive payments.

ADDRESSES: Interested parties are to submit applications electronically to hydroincentive@ee.doe.gov. DOE's guidance is available at: https://www.energy.gov/eere/water/downloads/federal-register-notice-epact-2005-section-242-hydroelectric-incentive-0.

FOR FURTHER INFORMATION CONTACT: Questions may be addressed to Corey Vezina, U.S. Department of Energy, Golden Field Office, 15013 Denver West Parkway, Golden, CO 80401, (240) 562-1382 or by email at hydroincentive@ee.doe.gov. Further instruction can be found in the guidance posted at https://www.energy.gov/eere/water/downloads/federal-register-notice-epact-2005-section-242-hydroelectric-incentive-0. Electronic communications are recommended for correspondence and required for submission of application information.

SUPPLEMENTARY INFORMATION: In the Energy Policy Act of 2005 (EPAct 2005; Pub. L. 109-58), Congress established a new program to support the expansion of hydropower energy development at existing dams and impoundments through an incentive payment procedure. Under Section 242 of EPAct 2005, the Secretary of Energy is directed to provide incentive payments to the owner or authorized operator of qualified hydroelectric facilities for energy generated and sold by a qualified hydroelectric facility for a specified 10-year period (See 42 U.S.C. 15881). The 2018 Consolidated Appropriations Act authorized funding for the Section 242 program for conventional hydropower under EPAct 2005. In FY 2018, DOE allocated $6.6M for this purpose.

Recently DOE made minor updates to clarify its Guidance for the Energy Policy Act of 2005 Section 242. The Guidance is available at: https://www.energy.gov/eere/water/downloads/federal-register-notice-epact-2005-section-242-hydroelectric-incentive-0. Each application will be reviewed based on the Guidance. DOE has updated its Guidance to clarify eligible rehabilitation on existing facilities that have been offline because of disrepair or dismantling for at least five consecutive years immediately prior to October 1, 2005 and returning online with new hydroelectric power on or before September 30, 2015 (see the second of three qualifications in Section III). DOE also updated its Guidance to re-emphasize the statutory deadline by which new hydropower generation must be placed into operation at a non-powered or powered dam as on or after October 1, 2005 and on or before September 30, 2015 (see Section IV). DOE notes that applicants that received incentive payments for prior calendar years must submit a full application addressing all eligibility requirements for hydroelectricity generated and sold in calendar year 2017. As authorized under Section 242 of EPAct 2005, and as explained in the Guidance, DOE also notes that it will only accept applications from qualified hydroelectric facilities that began operations at an existing dam or conduit during the inclusive period beginning October 1, 2005, and ending on September 30, 2015. Therefore, although DOE is accepting applications for full calendar year 2017 production, the qualified hydroelectric facility must have begun operations starting October 1, 2005, through September 30, 2015, for DOE to consider the application.

When submitting information to DOE for Section 242 program, it is recommended that applicants carefully read and review the completed content of the Guidance for this process. When reviewing applications, DOE may corroborate the information provided with information that DOE finds through FERC e-filings, contact with power off-taker, and other due diligence measure carried out by reviewing officials. DOE may require the applicant to conduct and submit an independent audit at its own expense, or DOE may conduct an audit to verify the number of kilowatt-hours claimed to have been generated and sold by the qualified hydroelectric facility and for which an incentive payment has been requested or made.

Issued in Washington, DC on June 13, 2018.
Timothy Unruh,
Deputy Assistant Secretary for Renewable Power, Energy Efficiency and Renewable Power.

[FR Doc. 2018-13233 Filed 6-19-18; 8:45 am]

BILLING CODE 6450-01-P